DEPARTMENT OF THE INTERIOR

Bureau of Land Management

[LLOR-936000-L14400000-ET0000-15XL1109AF; HAG-15-0118; WAOR-50699]

Notice of Proposed Withdrawal Extension and Opportunity for Public Meeting; Washington

AGENCY: Bureau of Land Management, Interior.

ACTION: Notice.

SUMMARY: The Assistant Secretary of the Interior for Land and Minerals Management proposes to extend the duration of Public Land Order (PLO) No. 7209 for an additional 20-year term. PLO No. 7209 withdrew 3.25 acres of public land from settlement, sale, location, or entry under the general lands laws, including the United States mining laws and leasing under the mineral leasing laws, to protect the fragile, unique, and/or endangered natural and cultural resources at Cape Johnson located adjacent to the Olympic National Park in Clallam County, Washington. In addition, this notice gives the public an opportunity to comment on the proposed withdrawal extension application and to a request a public meeting.

DATES: The BLM must receive comments and public meeting requests by May 31, 2016.

ADDRESS: Comments and meeting requests should be sent to the Bureau of Land Management (BLM) Oregon/Washington State Director, P.O. Box 2965, Portland, Oregon 97208-2965.

FOR FURTHER INFORMATION CONTACT: Jacob Childers, Land Law Examiner, at the address above or by telephone at 503-808-6225, or Barbara Holyoke at 206-220-4092, National Park Service (NPS), 168 South Jackson St., Seattle, WA 98104. Persons who use a telecommunications device for the deaf (TDD) may call the Federal Information Relay Service (FIRS) at 1-800-877-8339 to contact either of the above individuals. The FIRS is available 24 hours a day, 7 days a week, to leave a message or question. You will receive a reply during normal business hours.

SUPPLEMENTARY INFORMATION: The withdrawal created by PLO No. 7209 (61 FR 38783 (1996)), will expire July 24, 2016, unless it is extended, and is incorporated herein by reference. The NPS filed a petition/application to extend PLO No. 7209 for an additional 20-year term. PLO No. 7209 withdrew 3.25 acres of public land from settlement, sale, location, and entry under the general land laws, including the United States mining laws and leasing under the mineral leasing laws, subject to valid existing rights.

The Assistant Secretary for Land and Minerals Management has approved the petition/application of the NPS. Therefore, the petition/application constitutes a withdrawal extension proposal of the Secretary of the Interior (43 CFR 2310.1-3(e)).

The purpose of the proposed withdrawal extension is to protect the fragile, unique, and endangered resources at Cape Johnson in Clallam County, Washington.

The use of right-of-way, interagency agreement, or cooperative agreement would not provide adequate protection. There are no suitable alternative sites as the described lands are the actual lands in need of protection.

The NPS would not need to acquire water rights to fulfill the purpose of the requested withdrawal extension.

For the period until May 31, 2016, all persons who wish to submit comments, suggestions, or objections in connection with the proposed withdrawal application may present their views in writing to the BLM State Director Oregon State Office at the address indicated above. Before including your address, phone number, email address, or other personal identifying information in your comment, you should be aware that your entire comment—including your personal identifying information—may be made publicly available at any time. While you can ask us in your comment to withhold your personal identifying information from public review, we cannot guarantee that we will be able to do so.

Notice is hereby given that an opportunity for a public meeting is offered in connection with the proposed withdrawal extension. All interested parties who desire a public meeting for the purpose of being heard on the proposed withdrawal extension must submit a written request to the BLM Oregon/Washington State Director no later than May 31, 2016. Upon determination by the authorized officer that a public meeting will be held, a notice of the time and place will be published in the Federal Register and a local newspaper at least 30 days before the scheduled date of the meeting.

The application will be processed in accordance with the regulations set forth in 43 CFR 2310.4.

Steve Storo,
Acting Chief, Branch of Land, Mineral, and Energy Resources.

[FR Doc. 2016-04581 Filed 3-1-16; 8:45 am]

BILLING CODE 4310-33-P